DEPARTMENT OF HOMELAND SECURITY

Coast Guard

33 CFR Part 165

[CGD09-06-076]

Safety Zone: Captain of the Port Sector Lake Michigan Zone

AGENCY: Coast Guard, DHS.

ACTION: Notice of enforcement of regulation.

SUMMARY: The Coast Guard will enforce safety zones for annual fireworks displays in the Captain of the Port Sector Lake Michigan Zone during July 2006. This action is necessary to provide for the safety of life and property on navigable waters during these events. These safety zones will restrict vessel traffic from a portion of the Captain of the Port Sector Lake Michigan Zone.

DATES: Effective Dates: Effective from 12:01 a.m. (local) on July 1, 2006 to 11:59 p.m. (local) on July 31, 2006.

FOR FURTHER INFORMATION CONTACT: Chief Warrant Officer Brad Hinken, Sector Lake Michigan, (414) 747 7154.

SUPPLEMENTARY INFORMATION: The Coast Guard will enforce the permanent safety zones in 33 CFR 100.901 (published July 1, 2005), for fireworks displays in the Captain of the Port Sector Lake Michigan Zone during July 2006. The following safety zones are in effect for fireworks displays occurring in the month of July 2006:

(1) Venetian Festival Fireworks Display, St. Joseph River, Michigan. Location: St. Joseph River, within a 1,000-foot radius of the fireworks launching site, located at the St. Joseph South Pier, in approximate position 42°06′48″ N 086°29′15″ W.

Enforcement Date: The Venetian Festival Fireworks Display safety zone will be enforced from 9 p.m. (local) to 11:30 p.m. (local) on July 15, 2006.

(2) South Haven 4th of July Fireworks, South Haven, Michigan.

Location: Lake Michigan, Black River, South Haven, MI within a 1000 foot radius of the fireworks launching site located on the North Pier, in approximate position 42°24′08″ N 086°17′03″ W. (NAD 1902).

Enforcement Date: The South Haven 4th of July Fireworks safety zone will be enforced from 9 p.m. (local) to 11 p.m. (local) on July 5, 2006.

(3) Van Andel Fireworks Show, Holland, MI.

Location: Lake Michigan, Holland Harbor, MI, South Pier, within a 1000 foot radius of the fireworks launching site located in approximate position 42°46′21″ N 086°12′48″ W.

Enforcement Dates: The Van Andel Fireworks Show safety zone will be enforced from 9 p.m. (local) to 11 p.m. (local) on July 3, 2006 and from 9 p.m. (local) to 11 p.m. (local) on July 4, 2006.

(4) City Fireworks, Frankfort, MI.

Location: Lake Michigan, Frankfort, MI within a 1000 foot radius of the fireworks launching site located on Lake Michigan Beach in approximate position 44°38′ N 086°14′50″ W.

Enforcement Dates: The City Fireworks safety zone will be enforced from 9 p.m. (local) to 11 p.m. (local) on July 4, 2006.

(5) 4th of July Fireworks, St. Joseph, MI.

Location: St. Joseph River, within a 1000 foot radius of the fireworks launching site, located at the St. Joseph South Pier, in approximate position 42°06′48″ N 086°29′15″ W.

Enforcement Dates: The 4th of July Fireworks safety zone will be enforced from 7 p.m. (local) to 9 p.m. (local) on July 3, 2006.

(6) Grand Haven Area Jaycees Annual 4th of July Fireworks Display, Grand Haven, MI.

Location: That portion of the Grand River, Grand Haven, MI from the pier heads (mile 0.0) to the U.S. 31 Bascule Bridge (mile 2.89).

Enforcement Dates: The Grand Haven Area Jaycees Annual 4th of July Fireworks Display safety zone will be enforced from 7 p.m. (local) to 11 p.m. (local) on July 4, 2006.

In order to ensure the safety of spectators and transiting vessels, these safety zones will be in effect for the duration of the events. In the event that these safety zones affect shipping, commercial vessels may request permission from the Captain of the Port, Sector Lake Michigan to transit through the safety zone.

Requests must be made in advance and approved by the Captain of Port before transits will be authorized. The Captain of the Port may be contacted via U.S. Coast Guard Sector Lake Michigan on channel 16, VHF-FM. The Coast Guard will give notice to the public via a Broadcast Notice to Mariners that the regulation is in effect.

Dated: June 22, 2006.
S.P. LaRochelle,
Captain, U.S. Coast Guard, Captain of the Port Sector Lake Michigan.

[FR Doc. E6-10365 Filed 6-30-06; 8:45 am]

BILLING CODE 4910-15-P